FEDERAL DEPOSIT INSURANCE CORPORATION

Establishment of the FDIC Advisory Committee on Banking Policy

AGENCY: Federal Deposit Insurance Corporation (FDIC).

ACTION: Notice.

SUMMARY: The Chairman of the Federal Deposit Insurance Corporation has determined to establish the FDIC Advisory Committee on Banking Policy (“the Committee”). The Committee will provide advice and recommendations on a broad range of issues relating to the FDIC's mission and activities, including, but not limited to: the delivery of services by the FDIC, its corporate infrastructure, and policy initiatives in the areas of deposit insurance, supervision of financial institutions, resolutions and management of failing and failed institutions, and other issues impacting the financial services industry. The Chairman certifies that the establishment of this advisory committee is in the public interest in connection with the performance of duties imposed on the FDIC by law.

FOR FURTHER INFORMATION CONTACT: Joan S. van Berg, Legal Division, FDIC, 550 17th Street, NW., Washington, DC 20429; telephone (202) 898-6891.

SUPPLEMENTARY INFORMATION: In accordance with the requirements of the Federal Advisory Committee Act (“FACA”), 5 U.S.C. App. 2, notice is hereby given that the Chairman of the FDIC intends to establish the FDIC Advisory Committee on Banking Policy (“the Committee”). After consultation with the General Services Administration as required by section 9(a)(2) of FACA and 41 CFR 102-3.65, the Chairman of the FDIC certifies that he has determined that the establishment of the Committee is in the public interest in connection with the performance of duties imposed on the FDIC by law.

The Committee will provide advice and recommendations on a broad range of issues relating to the FDIC's mission and activities, including, but not limited to: the delivery of services by the FDIC, its corporate infrastructure, and policy initiatives in the areas of deposit insurance, supervision of financial institutions, resolutions and management of failing and failed institutions, and other issues impacting the financial services industry. The Committee will function solely as an advisory body, and in compliance with the provisions of the Federal Advisory Committee Act. To achieve the Committee's goals, members will be appointed that can effectively represent the varied and diverse interests affected by the range of issues to be considered. The Committee's membership may include, among others, representatives from academia, financial institutions, the financial services industry, private industry, consumer or public interest groups, state supervisory authorities, or others impacted by banking-related and operational issues. The Committee's members will be chosen to ensure a fairly balanced membership to bring into account a diversity of viewpoints, expertise, and backgrounds.

Dated: February 13, 2002.
Federal Deposit Insurance Corporation.
Robert E. Feldman,
Executive Secretary.

[FR Doc. 02-3975 Filed 2-15-02; 8:45 am]

BILLING CODE 6714-01-P